DEPARTMENT OF COMMERCE

International Trade Administration

[C-570-208]

Polypropylene Corrugated Boxes From the People's Republic of China: Postponement of Preliminary Determination in the Countervailing Duty Investigation

AGENCY: Enforcement and Compliance, International Trade Administration, Department of Commerce.

DATES: Applicable May 30, 2025.

FOR FURTHER INFORMATION CONTACT: Rachel Accorsi or Shane Subler, AD/CVD Operations, Office VIII, Enforcement and Compliance, International Trade Administration, U.S. Department of Commerce, 1401 Constitution Avenue NW, Washington, DC 20230; telephone: (202) 482-3149 and (202) 482-6241, respectively.

SUPPLEMENTARY INFORMATION:

Background

On April 7, 2025, the U.S. Department of Commerce (Commerce) initiated a countervailing duty (CVD) investigation of imports of polypropylene corrugated boxes (PCBs) from the People's Republic of China (China).¹ Currently, the preliminary determination is due no later than June 11, 2025.²

¹ See Polypropylene Corrugated Boxes from the People's Republic of China: Initiation of Countervailing Duty Investigation, 90 FR 15555 (April 14, 2025) (Initiation Notice); see also Less-Than-Fair Value and Countervailing Duty Investigations of Fiberglass Door Panels and Polypropylene Corrugated Boxes From the People's Republic of China; Correction, 90 FR 21455 (May 20, 2025).

² See Checklist, “Countervailing Duty Investigation Initiation Checklist: Polypropylene Corrugated Boxes from the People's Republic of China,” dated April 7, 2025 (China PCBs CVD Initiation Checklist), at 2.

Postponement of Preliminary Determination

Section 703(b)(1) of the Tariff Act of 1930, as amended (the Act), requires Commerce to issue the preliminary determination in a countervailing duty investigation within 65 days after the date on which Commerce initiated the investigation. However, section 703(c)(1) of the Act permits Commerce to postpone the preliminary determination until no later than 130 days after the date on which Commerce initiated the investigation if: (A) the petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

On May 21, 2025, the petitioners ³ submitted a timely request that Commerce postpone the preliminary CVD determination.⁴ The petitioners stated that they request postponement for Commerce to analyze initial responses and to issue supplemental questionnaires prior to making its preliminary CVD determination.⁵

³ The petitioners are CoolSeal USA Inc., Inteplast Group Corporation, SeaCa Plastic Packaging, and Technology Container Corp.

⁴ See Petitioner's Letter, “Petitioners' Request for Postponement of Preliminary Determination,” dated May 21, 2025.

⁵ Id.

In accordance with 19 CFR 351.205(e), the petitioners have stated the reasons for requesting a postponement of the preliminary determination, and Commerce finds no compelling reason to deny the request. Therefore, in accordance with section 703(c)(1)(A) of the Act, Commerce is postponing the deadline for the preliminary determination to no later than 130 days after the date on which this investigation was initiated, i.e., August, 15, 2025.⁶ Pursuant to section 705(a)(1) of the Act and 19 CFR 351.210(b)(1), the deadline for the final determination of this investigation will continue to be 75 days after the date of the preliminary determination.

⁶ Id. at 2. The petitioners stated that 130 days after the date on which this investigation was initiated is August 22, 2025. This investigation was initiated on April 7, 2025, the date applicable in the Initiation Notice. Therefore, pursuant to section 703(c)(1) of the Act, Commerce is extending the deadline to 130 days after April 7, 2025, which is August 15, 2025. See Initiation Notice, 90 FR at 15555; see also China PCBs CVD Initiation Checklist at 2.

This notice is issued and published pursuant to section 703(c)(2) of the Act and 19 CFR 351.205(f)(1).

Dated: May 23, 2025.
Christopher Abbott,
Deputy Assistant Secretary for Policy and Negotiations, performing the non-exclusive functions and duties of the Assistant Secretary for Enforcement and Compliance.

[FR Doc. 2025-09782 Filed 5-29-25; 8:45 am]

BILLING CODE 3510-DS-P